DEPARTMENT OF ENERGY

Privacy Act of 1974; Notice To Amend an Existing System of Records

AGENCY: U.S. Department of Energy.

ACTION: Notice.

SUMMARY: As required by the Privacy Act of 1974, 5 U.S.C. 552a, and the Office of Management and Budget (OMB) Circular A-130, the Department of Energy (DOE) and the National Nuclear Security Administration (herein referred to collectively as “DOE”) are publishing notice of a proposed amendment to an existing system of records. DOE proposes to amend the system of records DOE-11 “Emergency Operations Notification Call List.” This notice will increase the categories of individuals covered by the Emergency Operations Notification Call List, expand the categories of information to be collected, and ensure that the Emergency Operations Notification Call List is applicable to all DOE facilities and activities.

DATES: The proposed amendment to this existing system of records will become effective without further notice on November 19, 2007 unless DOE receives adverse comments and determines that this amendment should not become effective on that date.

ADDRESSES: Written comments should be directed to the following address: U.S. Department of Energy, Alan J. Cerrone, Continuity Programs Manager, Office of Emergency Operations, National Nuclear Security Administration, NA-40, 1000 Independence Avenue, SW., Washington, DC 20585.

FOR FURTHER INFORMATION CONTACT: Abel Lopez, Director, Freedom of Information Act and Privacy Group, MA-74, U.S. Department of Energy, 1000 Independence Avenue, SW., Washington, DC 20585, (202) 586-5955; Isiah Smith, Deputy Assistant General Counsel for General Law, GC-77, U.S. Department of Energy, 1000 Independence Avenue, SW., Washington DC 20585, (202) 586-5000; David S. Jonas, Office of the General Counsel, National Nuclear Security Administration, NA-3.1, U.S. Department of Energy, 1000 Independence Avenue, SW., Washington DC 20585, (202) 586-5000; and Alan J. Cerrone, Continuity Programs Manager, Office of Emergency Operations, National Nuclear Security Administration, NA-40, 1000 Independence Avenue, SW., Washington, DC 20585, (301) 903-5886.

SUPPLEMENTARY INFORMATION: The events of September 11, 2001, and the threat of nuclear terrorism have resulted in an increased impetus for ensuring that such Federal Government emergency response capabilities are ready to respond on short notice. To rapidly and effectively respond, DOE plans to amend its system of records to maintain additional information about emergency response resources.

Since September 11, 2001, DOE's emergency response mission has expanded to include continuity of Government programs. In the case of a terrorist attack, weather related emergency, or accidental release of radiological materials, DOE will be able to use the information in this system of records to locate employees, to notify personnel of the event, to deploy responders, and/or to move operations to an alternate location. DOE also will be able to use the information in this system of records to mobilize personnel. The Homeland Security Act of 2002 delineates DOE's responsibilities for managing the readiness of capabilities and assets that may be called upon to respond to a nuclear or radiological incident. Homeland Security Presidential Directive-5, (HSPD-5), “Management of Domestic Incidents” mandated the development of an intergovernmental agency National Response Plan (NRP) to direct Federal Government agency capabilities and resources into a coordinated, unified domestic catastrophic incident management and response system. DOE has several responsibilities and functions under the NRP.

The amendment to this system will increase the categories of individuals covered by the Emergency Operations Notification Call List, expand the categories of information to be collected, and ensure that the Emergency Operations Notification Call List is applicable to all DOE facilities and activities.

DOE is submitting the report required by OMB Circular A-130 concurrently with the publication of this notice. The text of this notice contains information required by the Privacy Act, 5 U.S.C. 552a(e)(4).

Issued in Washington, DC, on September 28, 2007.
Ingrid A.C. Kolb,
Director, Office of Management.

DOE-11

SYSTEM NAME:

Emergency Operations Notification Call List.

SECURITY CLASSIFICATION:

Unclassified.

SYSTEM LOCATION(S):

U.S. Department of Energy, NNSA Service Center, P.O. Box 5400, Albuquerque, NM 87185-5400.

U.S. Department of Energy, Bonneville Power Administration, P.O. Box 3621, Portland, OR 97208.

U.S. Department of Energy, Chicago Office, 9800 South Cass Avenue, Argonne, IL 60439.

U.S. Department of Energy, Golden Field Office, 1617 Cole Boulevard, Golden, CO 80401.

U.S. Department of Energy, Headquarters, 1000 Independence Avenue, SW., Washington, DC 20585.

U.S. Department of Energy, Idaho Operations Office, 850 Energy Drive, Idaho Falls, ID 83401.

U.S. Department of Energy, National Energy Technology Laboratory (Morgantown), P.O. Box 880, Morgantown, WV 26507.

U.S. Department of Energy, National Energy Technology Laboratory (Pittsburgh), P.O. Box 10940, Pittsburgh, PA 15236-0940.

U.S. Department of Energy, Office of Naval Reactors, Crystal City, VA 22202.

U.S. Department of Energy, Oak Ridge Operations Office, P.O. Box 2001, Oak Ridge, TN 37831.

U.S. Department of Energy, Richland Operations Office, 825 Jadwin Avenue, P.O. Box 550, Richland, WA 99352.

U.S. Department of Energy, Savannah River Operations Office, P.O. Box A, Aiken, SC 29801.

U.S. Department of Energy, Schenectady Naval Reactors Office, P.O. Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, P.O. Box 3402, Golden, CO 80401.

U.S. Department of Energy, Office of Repository Development, P.O. Box 364629, North Las Vegas, NV 89036-8629.

CATEGORIES OF INDIVIDUALS COVERED BY THE SYSTEM:

Department of Energy and National Nuclear Security Administration (hereinafter referred to collectively as “DOE”) senior officials, office directors, managers, key support staff, and DOE contractors involved in DOE emergency management and operations activities, Continuity of Government activities and Continuity of Operations activities.

CATEGORIES OF RECORDS IN THE SYSTEM:

Name, office telephone number, home telephone number, home address, pager numbers, cellular telephone numbers, and electronic mail addresses.

AUTHORITY FOR MAINTENANCE OF THE SYSTEM:

Title 42, United States Code (U.S.C.), Section 7101 et seq. 50 U.S.C. 2401 et seq.; The Homeland Security Act of 2002; and the Homeland Security Presidential Directive-5, (HSPD-5), “Management of Domestic Incidents.”

PURPOSE(S):

The records are maintained and used by DOE to create a list that will enable 24 hour contact with DOE personnel and contractors in the event of an emergency in order to marshal a coordinated, unified response to catastrophic events that may impact DOE facilities or activities.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to DOE officers and employees under the Privacy Act.

2. A record from this system may be disclosed as a routine use when (1) It is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

3. A record from the system may be disclosed as a routine use for the purpose of an investigation, settlement of claims, or the preparation and conduct of litigation to a (1) Person representing the Department in the investigation, settlement or litigation, and to individuals assisting in such representation; (2) others involved in the investigation, settlement, and litigation, and their representatives and individuals assisting those representatives; and (3) witness, potential witness, or their representatives and assistants, and any other person who possesses information pertaining to the matter, when it is necessary to obtain information or testimony relevant to the matter.

POLICIES AND PRACTICES FOR STORING, RETRIEVING, ACCESSING, RETAINING, AND DISPOSING OF RECORDS IN THE SYSTEM:

STORAGE:

Records may be stored as paper records and electronic media.

RETRIEVABILITY:

Records may be retrieved by name of the individual.

SAFEGUARDS:

Paper records are maintained in a secure area and are locked in cabinets and desks. Electronic records are controlled through established DOE computer center procedures (personnel screening and physical security). Passwords are protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters, Deputy Administrator for Defense Nuclear Nonproliferation in the National Nuclear Security Administration, U.S. Department of Energy, 1000 Independence Avenue, SW., Washington, DC 20585.

NOTIFICATION PROCEDURES:

In accordance with the DOE regulation, implementing the Privacy Act, in Title 10, Code of Federal Regulations, Part 1008.6, any individual may request whether a system of records maintained by DOE contains records about him/her and request access to those records. The request should be directed to the Director, Headquarters Freedom of Information Act and Privacy Act Group, U.S. Department of Energy, or the Privacy Act Officer at the appropriate address identified above under “System Locations.” For records maintained by a Laboratory, Area or Site Office, the request should be directed to the Privacy Act Officer at the Office that has jurisdiction over that site. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual.

SYSTEM EXEMPTED FROM CERTAIN PROVISIONS OF THE ACT:

None.

[FR Doc. E7-19608 Filed 10-3-07; 8:45 am]

BILLING CODE 6450-01-P